NUCLEAR REGULATORY COMMISSION

NUREG-1842, “Evaluation of Human Reliability Analysis Methods Against Good Practices, Draft Report for Comment”

AGENCY: Nuclear Regulatory Commission.

ACTION: Notice of availability of NUREG-1842, “Evaluation of Human Reliability Analysis Methods Against Good Practices, Draft Report for Comment,” and request for public comment.

SUMMARY: The Nuclear Regulatory Commission (NRC) is announcing the availability of and is seeking comments on NUREG-1842, “Evaluation of Human Reliability Analysis Methods Against Good Practices, Draft Report For Comment.”

DATES: Comments on this document should be submitted by June 19, 2006. Comments received after that date will be considered to the extent practical. To ensure efficient and complete comment resolution, comments should include references to the section, page, and line numbers of the document to which the comment applies, if possible.

ADDRESSES: Members of the public are invited and encouraged to submit written comments to Michael Lesar, Chief, Rules and Directives Branch, Office of Administration, Mail Stop T6-D59, U.S. Nuclear Regulatory Commission, Washington, DC 20555-0001. Hand-deliver comments attention to Michael Lesar, 11545 Rockville Pike, Rockville, MD, between 7:30 a.m. and 4:15 p.m. on Federal workdays. Comments may also be sent electronically to NRCREP@nrc.gov.

This document, NUREG-1842, is available at the Agencywide Documents Access and Management System (ADAMS) Public Electronic Reading Room on the Internet at the NRC Web site at http://www.nrc.gov/reading-rm/adams.html under Accession No. ML060960216; on the NRC Web site at http://www.nrc.gov/reading-rm/doc-collections/nuregs/docs4comment; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION, CONTACT: Erasmia Lois, Human Factors and Reliability Branch, Office of Nuclear Regulatory Research, telephone (301) 415-6560, e-mail exl1@nrc.gov

SUPPLEMENTARY INFORMATION:

NUREG-1842, “Evaluation of Human Reliability Analysis Methods Against Good Practices, Draft Report for Comment, Draft for Comment”

The NRC is developing guidance for performing or evaluating human reliability analyses (HRAs) to support risk-informed regulatory decision-making and, in particular, the implementation of Regulatory Guide 1.200, “An Approach for Determining the Technical Adequacy of Probabilistic Risk Assessment Results for Risk-Informed Activities,” dated February 2004. The guidance is developed in two phases. The first phase focused on developing “Good Practices for Implementing Human Reliability Analysis,” that is documenting the processes and analytical tasks and judgments expected to have been performed in order for the HRA results to sufficiently represent the anticipated operator performance in risk-informed decisions. The good practices were submitted for public comment, NUREG-1792, Good Practices for Implementing Human Reliability Analysis, Draft Report for Comment,” August 2004, and were published as a final NUREG-1792 in April 2005. The second phase, summarized in draft NUREG-1842, evaluated the various HRA methods that are commonly used in regulatory applications, with a particular focus on their capabilities to satisfy the good practices, as well as their respective strengths and limitations regarding their underlying knowledge and data bases.

The NRC is seeking public comment in order to receive feedback from the widest range of interested parties and to ensure that all information relevant to developing this document is available to the NRC staff. This document is issued for comment only and is not intended for interim use. The NRC will review public comments received on the document, incorporate suggested changes as necessary, and issue the final NUREG-1842 for use.

The NRC will hold a public meeting on May 23, 2006 at the NRC headquarters, 11545 Rockville Pike, Rockville, Maryland, Room: Commission Briefing Room (8:30 a.m.-5 p.m., preliminary agenda enclosed). The purpose of the meeting is to discuss the findings and conclusions documented in NUREG-1842 in order to allow stakeholders develop a better understanding of the contents of the report and ask clarification questions. The NRC is not soliciting comments on draft NUREG-1842 as part of this meeting. Public comments on the draft NUREG can be provided as discussed above.

Dated at Rockville, MD, this 11th day of April 2006.
For the Nuclear Regulatory Commission.
Farouk Eltawila,
Director, Division of Risk Assessment and Special Projects, Office of Nuclear Regulatory Research.

Agenda—Public Meeting on NUREG-1842 “Evaluation of Human Reliability Analysis Methods Against Good Practices, Draft Report for Comment,”

May 23, 2006.

U.S. NRC Headquarters, 11555 Rockville Pike, Rockville, MD 20852, Room Commission Briefing Room

Preliminary Agenda
Morning | Topic
8:30-9 | Introduction/Overview.
9-10:30 | Evaluation of Methods.
| —Approach and Summary of results.
| —Brief discussion of each method.
10:30-10:45 | Break.
10:45-12 | Evaluation of Methods (Continued).
| —Comparison of methods against some key characteristics.
| —Implications—What methods should be used when?
| Lunch.
| Discussion on method evaluation (continued).
| Questions and Answers (as needed).

[FR Doc. E6-5736 Filed 4-17-06; 8:45 am]

BILLING CODE 7590-01-P